DEPARTMENT OF COMMERCE

National Oceanic and Atmospheric Administration

[I.D. 033005B]

Pacific Fishery Management Council; Public Meeting

AGENCY: National Marine Fisheries Service (NMFS), National Oceanic and Atmospheric Administration (NOAA), Commerce.

ACTION: Notice of public meeting.

SUMMARY: The Pacific Fishery Management Council's (Council) Highly Migratory Species Advisory Subpanel (HMSAS) will hold a work session, which is open to the public.

DATES: The HMSAS will meet on Thursday, April 21, 2005, from 10 a.m. until business for the day is completed.

ADDRESSES: The work session will be held in the large conference room at the California Department of Fish and Game, 4665 Lampson Avenue, Suite C, Los Alamitos, CA 90720; telephone: (562) 342-7100, email: kit.dahl@noaa.gov.

Council address: Pacific Fishery Management Council, 7700 NE Ambassador Place, Suite 200, Portland, OR 97220 1384.

FOR FURTHER INFORMATION CONTACT: Dr. Kit Dahl, Pacific Fishery Management Council, telephone: (503) 820-2280.

SUPPLEMENTARY INFORMATION: The primary purpose of the work session is to review current issues arising from the implementation of the highly migratory species (HMS) fishery management plan, make recommendations to the Council on future action on these issues, and, as appropriate, consider issues pertinent to the General Advisory Committee to the U.S. delegation to the Inter-American Tropical Tuna Commission. Issues discussed could include the Council's response to overfishing of bigeye tuna and other HMS species so declared in the future, developing sea turtle bycatch mitigation measures for the West Coast high seas longline fishery, establishing a limited entry program for the West Coast high seas longline fishery, and review of exempted fishing permits, among others.

Although non-emergency issues not contained in the HMSAS meeting agenda may come before the HMSAS for discussion, those issues may not be the subject of formal HMSAS action during this meeting. HMSAS action will be restricted to those issues specifically listed in this document and any issues arising after publication of this document that require emergency action under Section 305(c) of the Magnuson-Stevens Fishery Conservation and Management Act, provided the public has been notified of the HMSAS's intent to take final action to address the emergency.

Special Accommodations

The meeting is physically accessible to people with disabilities. Requests for sign language interpretation or other auxiliary aids should be directed to Ms. Carolyn Porter at (503) 820-2280 at least 5 days prior to the meeting date.

Dated: March 31, 2005.
Emily Menashes,
Acting Director, Office of Sustainable Fisheries, National Marine Fisheries Service.

[FR Doc. E5-1522 Filed 4-4-05; 8:45 am]

BILLING CODE 3510-22-S